DEPARTMENT OF HOMELAND SECURITY

Federal Emergency Management Agency

[Docket ID: FEMA-2025-0011; OMB No. 1660-0138]

Agency Information Collection Activities: Proposed Collection; Comment Request; Direct Housing Assistance Forms

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning information collected by FEMA to provide temporary housing units, including manufactured housing units, recreational vehicles and other readily fabricated dwellings to eligible applicants who, as a direct result of a major disaster or emergency, are unable to occupy their primary residence or obtain adequate alternate housing, and therefore require temporary housing.

DATES: Comments must be submitted on or before August 25, 2025.

ADDRESSES: To avoid duplicate submissions to the docket, please submit comments at www.regulations.gov under Docket ID: FEMA-2025-0011. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Nicole Dunne, Supervisory Emergency Management Specialist, FEMA, Recovery Directorate, 202-646-3297, and Nicole.Dunne@fema.dhs.gov. You may contact the Information Management Division for copies of the proposed collection of information at email address: FEMA-Information-Collections-Management@fema.dhs.gov.

SUPPLEMENTARY INFORMATION: The Robert T. Stafford Disaster Relief and Emergency Assistance Act, 42 U.S.C. 5174, as amended by the Disaster Mitigation Act of 2000 (Pub. L. 106-390), authorizes the President to provide temporary housing units, including manufactured housing units, recreational vehicles and other readily fabricated dwellings to eligible applicants who, as a direct result of a major disaster or emergency, are unable to occupy their primary residence or obtain adequate alternate housing, and therefore require temporary housing. Requirements for disaster-related housing needs of individuals and households who are eligible for temporary housing assistance may be found in 44 CFR 206.117—Housing Assistance. The information collected is used to determine the feasibility of a potential site for placement of temporary housing units (THUs) to ensure the THUs are ready for applicant occupancy, and to confirm applicant understanding of the requirements of occupancy of the THUs. The information will also provide FEMA with access to place the THUs, to document the installation and maintenance of the THUs, and to retrieve the THUs at the end of their use.

FEMA is revising this collection to add two instruments that are currently approved under 1660-0002—Disaster Assistance Registration, FEMA Form FF-104-FY-21-127 (formerly 009-0-5), Direct Temporary Housing Assistance Revocable License and Receipt for Government Property (Revocable License) and its Spanish translation FF-104-FY-21-127-A (formerly 009-0-6), Asistencia Directa para Vivienda Temporal Licencia Revocable y Recibo de Propiedad Gubernamental (Licencia Revocable). These instruments will be better aligned for their use in this collection.

FEMA is also adding a new instrument, FEMA Form FF-104-FY-25-101, Right of Entry. This instrument is used to obtain the landowner consent to inspect and determine feasibility of their property for the placement of Transportable Temporary Housing Unit (TTHUs).

Collection of Information

Title: Direct Housing Assistance Forms.

Type of Information Collection: Revision of a currently approved information collection.

OMB Number: 1660-0138.

FEMA Forms (12 in total): FEMA Form FF-104-FY-21-109 (formerly 010-0-9), Direct Housing Assistance Request for Site Inspection; FF-104-FY-21-110 (formerly 010-0-10)/FF-104-FY-21-110-A (formerly 010-0-10S), Landowner Authorization and Ingress-Egress Agreement; FF-104-FY-21-111 (formerly 009-0-138), THU Inspection (formerly TTHU Inspection Report); FF-104-FY-21-112 (formerly 009-0-136), TTHU Installation Work Order; FF-104-FY-21-113 (formerly 009-0-130), TTHU Maintenance Work Order; FF-104-FY-21-127 (formerly 009-0-5)/FF-104-FY-21-127-A Revocable License Agreement (formerly Revocable License and Receipt for Government Property); FF-104-FY-21-191 (formerly 009-0-129), TTHU Ready for Occupancy Status; FF-104-FY-21-192 (formerly 009-0-131), Conditions of Sale (formerly Sales Calculation Worksheet); FF-104-FY-21-193 (formerly 009-0-134), Recertification Worksheet (formerly Direct Temporary Housing Assistance Recertification Worksheet); FF-104-FY-21-194 (formerly 009-0-135)/FF-104-FY-21-194-A, Temporary Housing Agreement (formerly Direct Temporary Housing Assistance Temporary Housing Agreement); FF-104-FY-21-195 (009-0-137), Commercial Park Requirements Checklist (formerly Commercial Park Unit Pad Requirements Information Checklist); and FF-104-FY-25-101, Right of Entry.

Abstract: The information collected within this information collection is necessary for eligible applicant's use of THUs provided by FEMA, including all occupancy requirements, and to ensure FEMA has the required information to establish, maintain, or conclude use of a THU. The information will also provide FEMA with access to place the THUs, to document the installation and maintenance of the THUs, and to retrieve the THUs at the end of their use.

Affected Public: Individuals or households, business or other for-profit.

Estimated Number of Respondents: 30,401.

Estimated Number of Responses: 30,401.

Estimated Total Annual Burden Hours: 4,501.

Estimated Total Annual Respondent Cost: $245,262.

Estimated Respondents' Operation and Maintenance Costs: $0.

Estimated Respondents' Capital and Start-Up Costs: $0.

Estimated Total Annual Cost to the Federal Government: $11,864,348.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Senior Director for Information Management, Office of the Chief Administrative Officer, Mission Support, Federal Emergency Management Agency, Department of Homeland Security.

[FR Doc. 2025-11688 Filed 6-24-25; 8:45 am]

BILLING CODE 9111-23-P